FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 17, 2016.

A. Federal Reserve Bank of Kansas City (Dennis Denney, Assistant Vice President) 1 Memorial Drive, Kansas City, Missouri 64198-0001:

1. Richard Michael Howard and Patricia A. Turner Howard, both of Gulf Shores, Alabama; as members of the Vision Bancshares, Inc. Shareholders Agreement to acquire shares of Vision Bancshares, Inc., parent of Vision Bank, N.A., both in Ada, Oklahoma.

Board of Governors of the Federal Reserve System, July 28, 2016.
Michele T. Fennell,
Assistant Secretary of the Board.

[FR Doc. 2016-18243 Filed 8-1-16; 8:45 am]

BILLING CODE 6210-01-P